ENVIRONMENTAL PROTECTION AGENCY

[FRL-9224-5]

Draft Toxicological Review of Urea: In Support of Summary Information on the Integrated Risk Information System (IRIS)

AGENCY: Environmental Protection Agency (EPA).

ACTION: Notice of peer review meeting.

SUMMARY: EPA is announcing that Versar, Inc., an EPA contractor for external scientific peer review, will convene an independent panel of experts and organize and conduct an external peer review meeting to review the draft human health assessment titled, “Toxicological Review of Urea: In Support of Summary Information on the Integrated Risk Information System (IRIS)” (EPA/635/R-10/005). The draft assessment was prepared by the National Center for Environmental Assessment (NCEA) within the EPA Office of Research and Development.

On September 28 EPA released this draft assessment [75 FR 59716] solely for the purpose of pre-dissemination peer review under applicable information quality guidelines. This draft assessment has not been formally disseminated by EPA. It does not represent and should not be construed to represent any Agency policy or determination.

Versar, Inc. invites the public to register to attend this workshop as observers. In addition, Versar, Inc. invites the public to give brief oral comments and/or provide written comments at the workshop regarding the draft assessment under review. Time is limited, and reservations will be accepted on a first-come, first-served basis. In preparing a final report, EPA will consider Versar, Inc.'s report of the comments and recommendations from the external peer review workshop and any written public comments that EPA receives in accordance with this notice.

DATES: The peer review panel workshop on the draft assessment for Urea will be held via teleconference on December 13, 2010, beginning at 1 p.m. and ending at 5 p.m. Eastern Standard Time.

ADDRESSES: The draft “Toxicological Review of Urea: In Support of Summary Information on the Integrated Risk Information System (IRIS)” is available primarily via the Internet on the NCEA home page under the Recent Additions and Publications menus at http://www.epa.gov/ncea. A limited number of paper copies are available from the Information Management Team (Address: Information Management Team, National Center for Environmental Assessment [Mail Code: 8601P], U.S. Environmental Protection Agency, 1200 Pennsylvania Avenue, NW., Washington, DC 20460; telephone: 703-347-8561; facsimile: 703-347-8691). If you request a paper copy, please provide your name, mailing address, and the draft assessment title.

The peer review meeting on the draft Urea assessment will be held via teleconference. To attend the teleconference, register no later than December 6, 2010, by contacting Versar Inc. by e-mail: saundkat@versar.com (subject line: Urea Peer Review Meeting), by phone: 703-750-3000, ext. 545 or toll free at 1-800-2-VERSAR (1-800-283-7727), ask for Kathy Coon, the Urea Peer Review Meeting Coordinator, or by faxing a registration request to 703-642-6809 (please reference the Urea Peer Review Meeting and include your name, title, affiliation, full address and contact information). There will be limited time at the peer review workshop for comments from the public. Please inform Versar, Inc. if you wish to make comments during the workshop.

FOR FURTHER INFORMATION CONTACT: For information on registration, access or services for individuals with disabilities, or logistics for the external peer review workshop, please contact Versar, Inc. at 6850 Versar Center, Springfield, VA 22151; by e-mail: saundkat@versar.com (subject line: Urea Peer Review Meeting), by phone: 703-750-3000, ext. 545 or toll free at 1-800-2-VERSAR (1-800-283-7727), ask for Kathy Coon, the Urea Peer Review Meeting Coordinator, or by faxing a registration request to 703-642-6809 (please reference the Urea Peer Review Meeting and include your name, title, affiliation, full address and contact information).

For information on the draft assessment, please contact Amanda Persad, National Center for Environmental Assessment [Mail Code: B-243-01], U.S. Environmental Protection Agency, National Center for Environmental Assessment, Office of Research and Development U.S. Environmental Protection Agency, Research Triangle Park, NC 27711; telephone: 919-541 9781; facsimile: 919-541-2985; or e-mail: FRN_Questions@epa.gov.

SUPPLEMENTARY INFORMATION:

I. Information About IRIS

EPA's IRIS is a human health assessment program that evaluates quantitative and qualitative risk information on effects that may result from exposure to chemical substances found in the environment. Through the IRIS Program, EPA provides the highest quality science-based human health assessments to support the Agency's regulatory activities. The IRIS database contains information for more than 540 chemical substances that can be used to support the first two steps (hazard identification and dose-response evaluation) of the risk assessment process. When supported by available data, IRIS provides oral reference doses (RfDs) and inhalation reference concentrations (RfCs) for chronic noncancer health effects as well as assessments of potential carcinogenic effects resulting from chronic exposure. Combined with specific exposure information, government and private entities use IRIS to help characterize public health risks of chemical substances in a site-specific situation and thereby support risk management decisions designed to protect public health.

Dated: November 4, 2010.
Darrell A. Winner,
Acting Director, National Center for Environmental Assessment.

[FR Doc. 2010-28381 Filed 11-9-10; 8:45 am]

BILLING CODE 6560-50-P